DEPARTMENT OF HEALTH AND HUMAN SERVICES

Administration for Children and Families

Submission for Office of Management and Budget (OMB) Review; Building Capacity To Evaluate Child Welfare Community Collaborations To Strengthen and Preserve Families (CWCC) Cross-Site Process Evaluation (OMB #0970-0541)

AGENCY: Office of Planning, Research, and Evaluation (OPRE); Administration for Children and Families (ACF); Department of Health and Human Services (HHS).

ACTION: Request for public comments.

SUMMARY: The Administration for Children and Families at HHS is requesting an extension to continue data collection for an evaluation of the initiative, Community Collaborations to Strengthen and Preserve Families (also referred to as Child Welfare Community Collaborations [CWCC]). The cross-site process evaluation will provide insight to ACF about the various factors that promote or impede the implementation of child welfare community collaborations.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The evaluation involves seven data collection activities. Initial interviews with Project Directors and leaders from partner organizations and initial interviews with staff from lead and partner organizations have been completed. This request includes the remaining five activities:

• Survey Invitee Template: This template requests the Project Director of each CWCC grant to fill out a Survey Invitee Template to gather contact information for leaders and staff from lead and partner organizations who the evaluation team will invite to complete the Collaboration Survey (see below).

• Collaboration Survey: This electronic survey documents perceptions that leaders and staff from the CWCC lead and partner organizations have regarding their organizational/group processes, implementation activities, and progress towards goals. This survey is administered to staff at all grantee and partner organizations on an annual basis during each cohort's grant period.

• Site Visit Planning Template: Each project director (or their designee) will complete a Site Visit Planning Template to schedule site visit activities prior to each annual site visit.

• Two Site Visit Discussion Guides: To systematically document the approaches and strategies used by the first two cohorts of CWCC grantees (fiscal year (FY) 18 and FY 19 awardees), the evaluation team will conduct follow-up interviews with: (1) Project Directors from lead grantee organizations and leaders from partner organizations, and (2) Staff from the lead and partner organizations. These interviews will take place during site visits. Each grantee will participate in four site visits in total. As noted above, the first two have already been completed.

Respondents: Leadership and staff from CWCC lead (grantee) organizations and from partner organizations.

Annual Burden Estimates
Instrument | Total number of respondents (over request period) | Number of responses per respondent (total over request period) | Average burden hours per response (in hours) | Total burden (in hours) | Annual burden (in hours)
Cohort 1 Data Collection for FY 18 grantees
Site Visit Discussion Guide for Project Directors and Leaders from Partner Organizations—Follow-Up Interviews | 12 | 1 | 1.5 | 18 | 9
Site Visit Discussion Guide for Staff from Lead and Partner Organizations—Follow-Up Interviews | 36 | 1 | 1 | 36 | 18
Survey Invitee Template | 4 | 1 | 1 | 4 | 2
Annual Collaboration Survey | 268 | 1 | .5 | 134 | 67
Site Visit Planning Template | 4 | 1 | 2 | 8 | 4
Cohort 2 Data Collection for FY19 grantees
Site Visit Discussion Guide for Project Directors and Leaders from Partner Organizations—Follow-Up Interviews | 27 | 2 | 1.5 | 81 | 41
Site Visit Discussion Guide for Staff from Lead and Partner Organizations—Follow-Up Interviews | 81 | 2 | 1 | 162 | 81
Survey Invitee Template | 9 | 2 | 1 | 18 | 9
Annual Collaboration Survey | 990 | 2 | .5 | 990 | 495
Site Visit Planning Template | 9 | 2 | 2 | 36 | 18

Estimated Total Annual Burden Hours: 744.

Authority: Section 105(b)(5) of the Child Abuse Prevention and Treatment Act of 1978 (42 U.S.C 5106(b)(5)), as amended by the CAPTA Reauthorization Act of 2010 (Pub. L. 111-320).

Mary B. Jones,
ACF/OPRE Certifying Officer.

[FR Doc. 2022-23673 Filed 10-28-22; 8:45 am]

BILLING CODE 4184-29-P